DEPARTMENT OF THE INTERIOR

Fish and Wildlife Service

[FWS-R8-ES-2014-N164; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before September 2, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-218630

Applicant: Irena Mendez, Los Angeles, California

The applicant requests a permit renewal to take (survey by pursuit) the El Segundo blue butterfly (Euphilotes battoides allyni) in conjunction with surveys and population monitoring activities throughout the range of the species in California for the purpose of enhancing the species' survival.

Permit No. TE-821229

Applicant: David G. Crawford, Camarillo, California

The applicant requests a permit renewal to take (harass by survey, capture, handle, release, and collect voucher specimens) the tidewater goby (Eucyclogobius newberryi), and take (harass by survey, capture, handle, and release) the unarmored threespine stickleback (Gasterosteus aculeatus williamsoni) in conjunction with surveys and population monitoring activities throughout the range of each species in California for the purpose of enhancing the species' survival.

Permit No. TE-58888A

Applicant: Dale E. Ritenour, La Mesa, California

The applicant requests an amendment to a permit to take (capture, collect, receive, transport, hatch, identify, and rear) the Riverside fairy shrimp (Streptocephalus woottoni), and San Diego fairy shrimp (Branchinecta sandiegonensis) in conjunction with fairy shrimp cyst identification activities throughout the range of each species in California for the purpose of enhancing the species' survival.

Permit No. TE-54614A

Applicant: California Department of Fish and Wildlife, Rancho Cordova, California

The applicant requests a permit amendment to take (survey, capture, handle, transport, hold in captivity, captive propagate, obtain genetic samples, and release) the Amargosa vole (Microtus californicus scirpensis) while conducting scientific research and captive propagation activities throughout the range of the species in California for the purpose of enhancing the species' survival.

Permit No. TE-161496

Applicant: California State Parks, Felton, California

The applicant requests a permit renewal to take (survey, capture, handle, mark, collect genetic material, record morphological data, and release) the San Francisco garter snake (Thamnophis sirtalis tetrataenia) in conjunction with survey and research activities throughout the range of the species in Santa Cruz and San Mateo Counties, California, for the purpose of enhancing the species' survival.

Permit No. TE-41825B

Applicant: Virgil T. Parker, Pacifica, California

The applicant requests a permit to remove/reduce to possession Arctostaphylos glandulosa subsp. crassifolia (Del Mar manzanita) in conjunction with population surveys and genetic research activities on Federal lands in San Diego County, California, for the purpose of enhancing the species' survival.

Permit No. TE-808214-5

Applicant: Sonoma County Water Agency, Santa Rosa, California

The applicant requests a permit renewal to take (harass by survey, capture, handle, and release) the California freshwater shrimp (Syncaris pacifica) and California tiger salamander (Sonoma County Distinct Population Segment (DPS)) (Ambystoma californiense) in conjunction with surveys and population monitoring in Sonoma County, California, for the purpose of enhancing each species' survival.

Permit No. TE-801346

Applicant: Geoffrey L. Rogers, San Diego, California

The applicant requests a permit to take (harass by survey) the southwestern willow flycatcher (Empidonax traillii extimus) in conjunction with surveys and population monitoring activities in San Diego, Riverside, Orange, and Imperial Counties, California, for the purpose of enhancing the species' survival.

Permit No. TE-038716

Applicant: Frank J. Wegscheider, Placentia, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-108099

Applicant: Jane Higginson, Lakeside, California

The applicant requests a permit renewal to take (survey by pursuit) the Quino checkerspot butterfly (Euphydryas editha quino) in conjunction with survey activities throughout the range of the species in California for the purpose of enhancing the species' survival.

Permit No. TE-09389A

Applicant: Michelle E. Giolli, El Cerrito, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: July 25, 2014.
Michael Long,
Acting Regional Director, Pacific Southwest Region, Sacramento, California.

[FR Doc. 2014-18015 Filed 7-30-14; 8:45 am]

BILLING CODE 4310-55-P